DEPARTMENT OF HOUSING AND URBAN DEVELOPMENT

[Docket No. FR-5953-N-01]

Notice of Intent To Prepare a Draft Environmental Impact Statement (EIS) for the Rebuild by Design Meadowlands Flood Protection Project in Bergen County, New Jersey

AGENCY: Office of the Assistant Secretary for Community Planning and Development, HUD.

ACTION: Notice of intent to prepare an EIS.

SUMMARY: The U.S. Department of Housing and Urban Development (HUD) gives notice that the State of New Jersey Department of Environmental Protection (NJDEP), on behalf of the State of New Jersey through its Department of Community Affairs (NJDCA), as the recipient of U.S. Department of Housing and Urban Development (HUD) grant funds, and as the “Responsible Entity,” as that term is defined by HUD regulations at 24 CFR 58.2(a)(7)(i), intends to prepare an Environmental Impact Statement (EIS) for the Rebuild by Design (RBD) Meadowlands Flood Protection Project (the Proposed Project). The State of New Jersey, through NJDCA, has designated the NJDEP as the Lead Agency to prepare the EIS for the Proposed Project in accordance with the National Environmental Policy Act (NEPA). The EIS will analyze the environmental effects of alternatives for the construction of flood risk reduction measures within the Boroughs of Little Ferry, Moonachie, Carlstadt, and Teterboro, and the Township of South Hackensack, all in Bergen County, New Jersey (the Project Area). Such measures will be designed to address the impacts of coastal and riverine (fluvial) flooding on the quality of the human environment in the Project Area due to both sea level rise and storm hazards, including heavy rainfall events and intense coastal storm events. The approximate Project Area boundaries are: Hackensack River to the east; Paterson Plank Road and the southern boundary of Carlstadt to the south; State Route 17 to the west; and Interstate 80 and the northern boundary of the Borough of Little Ferry to the north.

The State of New Jersey through NJDCA is the Grantee of HUD Community Development Block Grant Disaster Recovery (CDBG-DR) funds that have been appropriated under the Disaster Relief Appropriations Act of 2013 (Pub. L. 113-2, approved January 29, 2013) related to disaster relief, long-term recovery, restoration of infrastructure and housing, and economic revitalization in the most impacted and distressed areas resulting from a major disaster that was declared pursuant to the Robert T. Stafford Disaster Relief and Emergency Assistance Act of 1974 (Stafford Act) in calendar year 2012 for Hurricane Sandy. The Proposed Project was developed and selected as a winning concept through HUD's and the Hurricane Sandy Rebuilding Task Force's RBD competition. The RBD competition promotes the development of innovative resilience projects in the Sandy-affected region. HUD has allocated $150 million in CDBG-DR funds for the planning, design, and implementation of this Project. Receipt of CDBG-DR funding requires compliance with NEPA.

This Notice of Intent to prepare an EIS is, therefore, being published in accordance with NEPA, the Council of Environmental Quality (CEQ) NEPA Regulations found at 40 CFR parts 1500-1508, HUD implementing regulations at 24 CFR part 58, and HUD's additional environmental review requirements for the Project published in a Federal Register notice on October 16, 2014 (79 FR 62182). This Notice of Intent to prepare a EIS (as defined at 40 CFR 1508.22) is in accordance with CEQ Regulations, and represents the beginning of the public scoping process as outlined in 40 CFR 1501.7.

A Draft Public Scoping Document, or Draft Scope of Work to prepare an EIS (Draft Scope of Work), for the Proposed Project is available at www.rbd-meadowlands.nj.gov. The Draft Scope of Work outlines the Proposed Project's purpose and need, initial range of alternatives, resource areas to be addressed in the EIS, proposed analytical methodologies, and other elements associated with the Project and this NEPA process as known at this early stage.

Following the public scoping process, a Draft EIS will be prepared that analyzes the Proposed Project. Once the Draft EIS is certified as complete, a notice will then be sent to appropriate government agencies, groups, and individuals known to have an involvement or interest in the Draft EIS and particularly in the environmental impact issues identified therein. A Notice of Availability of the Draft EIS will be published in the Federal Register and local media outlets at that time in accordance with HUD and CEQ Regulations. Any person or agency interested in receiving notice and commenting on the Draft Scope of Work or Draft EIS should contact the individual named in this notice under the heading FOR FURTHER INFORMATION CONTACT no later than July 20, 2016.

DATES: Comments on the Draft Scope of Work are requested by this notice and will be accepted until July 20, 2016.

ADDRESSES: Comments on the Draft Scope of Work are requested by this notice and will be accepted by the individuals named in this notice under the heading FOR FURTHER INFORMATION CONTACT.

Comments may also be submitted: (1) Online to the NJDCA Web site at http://www.nj.gov/dca/divisions/sandyrecovery/review/; or (2) U.S. Mail to: Ms. Laura Shea, Assistant Commissioner, Sandy Recovery Division, New Jersey Department of Community Affairs, 101 South Broad Street, P.O. Box 800, Trenton, NJ 08625-0800.

Comments will also be accepted at the NEPA scoping meeting to be held on July 6, 2016. All comments received by July 20, 2016 will be considered prior to the acceptance, certification, and distribution of the Final Scope of Work, which will reflect substantive comments received during the public scoping period and used as input into the development of the Draft EIS. Commenters are also requested to submit: (a) Any information related to reports or other environmental studies planned or completed in the Project Area; (b) major issues that the Draft EIS should consider; and (c) any recommended mitigation measures and alternatives associated with the Proposed Project.

Federal agencies having jurisdiction by law, special expertise, or other special interest should report their interest and indicate their readiness to aid in the EIS effort as a “Cooperating Agency.” Written requests of individuals and organizations to participate as Section 106 Consulting Parties under the National Historic Preservation Act may also be made to the individual named in this notice under the heading FOR FURTHER INFORMATION CONTACT.

The public and agencies will also be offered an opportunity to comment on the purpose and need, range of alternatives, level of detail, methodologies, and other elements of the Draft Scope of Work through public and agency outreach that will consist of: A public scoping meeting (described herein); scheduled community advisory group meetings associated with the preparation of the EIS; meetings with the applicable cooperating, involved, and interested agencies, as necessary; and meetings with Section 106 consulting parties, including federally recognized Indian tribes. Once completed and released, the Draft EIS will be available for public and agency review and comment.

With NJDEP serving as the Lead Agency, the EIS will be prepared in accordance with NEPA, CEQ regulations found at 40 CFR parts 1500-1508, and HUD regulations found at 24 CFR part 58. In accordance with 42 U.S.C. 5304(g) and HUD's regulations at 24 CFR part 58 (entitled, “Environmental Review Procedures for Entities Assuming HUD Environmental Responsibilities”), HUD has provided for assumption of its NEPA authority by the State of New Jersey through the NJDCA, with NJDCA delegating NEPA Lead Agency responsibility to the NJDEP for the administration of the Proposed Project.

The EIS will also comply, as necessary, with Section 106 of the National Historic Preservation Act, the Clean Water Act, Executive Order 12898 “Federal Actions to Address Environmental Justice in Minority Populations and Low-Income Populations,” Executive Order 11990 “Protection of Wetlands,” Executive Order 11988 “Floodplain Management,” Executive Order 13690 “Establishing a Federal Flood Risk Management Standard and a Process for Further Soliciting and Considering Stakeholder Input,” and other applicable Federal, State, and local laws and regulations.

FOR FURTHER INFORMATION CONTACT: For further information, to request a copy of the Draft Scope of Work, to comment on the Draft Scope of Work, and/or to address questions concerning the Proposed Project, please contact NJDEP via (1) email at rbd-meadowlands@dep.nj.gov; or (2) U.S. Mail to Mr. Dennis Reinknecht, RBD Program Manager, Engineering and Construction, Office of Flood Hazard Risk Reduction Measures, 501 East State Street, Mail Code 501-01A, P.O. Box 420, Trenton, NJ 08625-0420.

Persons may also view the Draft Scope of Work by visiting the Rebuild by Design-Meadowlands Web site at www.rbd-meadowlands.nj.gov.

SUPPLEMENTARY INFORMATION:

A. Project Background

HUD launched the RBD competition in the summer of 2013 (July 29, 2013, 78 FR 45551) to develop ideas to improve physical, ecological, economic, and social resilience in regions affected by Hurricane Sandy. The competition sought to promote innovation by developing flexible solutions that would increase regional resilience. The Proposed Project was one of the competition's winning concepts; it was developed with the primary goal of reducing flood risk in the Project Area. HUD awarded $150 million to the State of New Jersey for the Proposed Project. The EIS will analyze potential impacts of certain alternatives involving construction of flood risk reduction measures designed to address the impacts of coastal and riverine (fluvial) flooding in the Project Area, stemming from the award-winning RBD design.

The Project Area is vulnerable to both inland and coastal flooding. Hurricane Sandy exposed the vulnerabilities within the Project Area after low-lying areas were inundated by coastal storm surges. Within the Project Area, rainfall-induced flooding is more common and happens more frequently than coastal storm surge flooding. However, during Hurricane Sandy the impacts of rainfall flooding were considerably less than those from coastal storm surge flooding. If Hurricane Sandy had been a substantial rainfall event as well as a storm surge event, the Project Area's past history of flooding during heavy rainfall events indicates that the storm could have further increased flood levels and property damages.

Hurricane Sandy significantly impacted the Project Area, highlighting existing deficiencies in the Project Area's resiliency and ability to adequately protect vulnerable populations and critical infrastructure from flooding during major storm events. These impacts included extensive inland flooding due to major tidal surges, with significant damage to residential and commercial properties, impacts to critical health care facilities, and the failure of critical power, transportation, and water and sewer infrastructure. Approximately 1,600 homes, 600 rental properties, and 1,900 businesses within the Project Area were damaged by Hurricane Sandy. Loss of income, loss of property taxes, and other Sandy-related property damage were estimated to be in excess of $40 million within the Project Area, including over $20 million in property damages alone. The average amount of property damage to each structure in the Project Area ranged from approximately $1,000 to $12,000. Nearly 30 percent of the structures damaged within the Project Area were renter-occupied; finding affordable replacement housing for renters within the Project Area was one of the immediate challenges following the hurricane. The goal of the Proposed Project is to reduce such damages, impacts, and losses during future events by decreasing the flooding risk in the Project Area.

B. Purpose of and Need for the Proposed Project

The Proposed Project includes the construction of flood risk reduction measures designed to address the impacts of coastal and riverine (fluvial) flooding on the quality of the human environment due to both storm hazards and sea level rise within the Project Area. The purpose of the Proposed Project is to reduce flood risk in the Project Area, thereby protecting critical infrastructure, residences, and businesses from the more frequent and intense flood events anticipated in the future.

The Proposed Project is needed to address: (1) Systemic inland flooding from high-intensity rainfall/runoff events, and (2) coastal flooding from storm surges and abnormally high tides. In addition to reducing flooding in the Project Area, the Proposed Project is needed to directly protect life, public health, and property in the Project Area, reduce flood insurance rates and claims from future events, and potentially restore property values to the extent possible with the available funding. The Proposed Project is needed to increase community resiliency, including protecting accessibility to, and on-going operations of, critical health care services, emergency services, and transportation and utility infrastructure. The Proposed Project will also deliver co-benefits, potentially integrating the flood hazard risk reduction strategy with civic, cultural, and recreational values to incorporate active and passive recreational uses, multi-use facilities, public spaces, and other design elements that integrate the Proposed Project into the fabric of the community to the extent practical with the available funding.

To address these needs, the Proposed Project would combine hard infrastructure (such as bulkheads or floodwalls), soft landscaping features (such as berms and/or levees), and/or a series of drainage improvements that would reduce flooding in the Project Area, with freshwater basins and the Meadowlands wetlands themselves increasing flood storage capacity and flood protection. The Proposed Project would connect to and potentially expand existing and future marshland restoration efforts by the New Jersey Sports and Exhibition Authority. Urban design features integrated into the proposed flood protection system would also provide ancillary benefits by enhancing natural areas and allowing public access to open spaces and increased recreational opportunities along the Hackensack River. The EIS will examine alternatives that best meet the purpose and need of the Proposed Project.

C. Project Alternatives

The EIS will examine three build alternatives, as well as a No Action Alternative. Each of the three build alternatives will seek to reduce the flood risk within the Project Area. These alternatives vary by the type of infrastructure that is proposed. Alternative 1 will analyze the use of levees, berms, barriers, or floodwalls to reduce flood risk. Alternative 2 will analyze the impacts of substantial drainage improvements achieved through a series of local projects within the Project Area to reduce flood risk, Alternative 3, a hybrid of Alternatives 1 and 2, will analyze the impacts of blending new infrastructure and drainage improvements to reduce flood risk in the Project Area.

Each alternative is being evaluated through the ongoing engineering feasibility analysis and application of preliminary screening criteria. These alternatives will be further developed and modified as the EIS process proceeds. Each alternative must be implementable within the limits of the CDBG-DR funding available at the latest by September 30, 2022. The three build alternatives, as currently proposed, are summarized below.

Alternative 1 or the Structural Flood Reduction Alternative. Alternative 1 will analyze various structural, infrastructure-based solutions that would be constructed to provide protection from both fluvial and tidal/storm surge flooding. This alternative, to the extent practical, would provide a Federal Emergency Management Agency (FEMA) Certifiable level of flood protection to a portion of the Project Area. This alternative may consist of a range of structures, including levees, berms, barriers, drainage structures, pump stations, floodgates, and/or other hard and soft infrastructure to achieve the required level of flood protection. Different routing alignments and different levels of flood protection are also being considered.

Alternative 2 or the Fluvial/Rain Event Drainage Improvement Alternative. Alternative 2 will analyze a series of storm water drainage projects aimed at reducing the occurrence of higher frequency, small- to medium-scale flooding events that impact the communities located in the Project Area. Together, these interventions would provide a system of improved storm water management, and may include both local drainage improvements and wetlands restoration to protect communities located in the Project Area and address day-to-day water management challenges. These interventions may include: Drainage ditches, pipes, and pump stations at strategic locations; increased roadway elevations; new green infrastructure (e.g., wetland drainage basins, bioswales), water storage areas, and water control structures; cleaning and de-snagging of existing waterways; and increasing and enhancing public open space.

Alternative 3 or the Hybrid Alternative. Alternative 3 will analyze a strategic, synergistic blend of new infrastructure and local drainage improvements to reduce flood risk in the Project Area. Components of Alternatives 1 and 2 will be combined to provide an integrated, hybrid solution that employs a combination of appropriate levees, berms, drainage structures, pump stations, and/or floodgates, coupled with local drainage improvement projects, to achieve the maximum amount of flood protection within the boundaries of the Project Area.

No Action Alternative. The No Action Alternative will also be evaluated in accordance with CEQ Regulations at 40 CFR 1502.14(d). The No Action Alternative represents the status quo or baseline conditions without implementation of any of the improvements associated with the Proposed Project.

The alternatives analysis will consist of a comparison of the four alternatives' impacts on the human environment pursuant to 24 CFR part 58, as well as how well each alternative meets the Purpose of and Need for the Proposed Project. This process, which will be described in detail in the Draft EIS, will lead to the designation of a Preferred Alternative.

D. Need for the EIS

The Proposed Project described above has the potential to significantly affect the quality of the human environment. An EIS will therefore be prepared in accordance with NEPA requirements. Responses to this notice will be used to: (1) Determine significant environmental issues; (2) assist in developing a range of alternatives to be considered; (3) identify issues that the EIS should address; and (4) identify agencies and other parties that will participate in the EIS process and the basis for their involvement.

E. Scoping

A public scoping meeting on the Draft Scope of Work will be held on July 6, 2016, from 6:00 until 8:00 p.m. at the Robert J. Craig School, located at 20 West Park Street, Moonachie, NJ 07074. The public meeting facility will be handicapped-accessible to the mobility-impaired. Interpreter services will be made available for persons who are hearing or visually impaired, upon advance request. Interpreter services will also be made available for persons with Limited English Proficiency through a language access service, upon advance request. The EIS scoping meeting will provide an opportunity for the public to learn more about the Project and provide input on the EIS and the NEPA process.

During the meeting, an overview of the Proposed Project will be provided, as well as details on the early development of alternatives. The public scoping meeting will also provide an opportunity for the public to provide comment on the Draft Scope of Work. The Draft Scope of Work will be made available to the public for review and comment at the scoping meeting. An electronic version of the Draft Scope of Work is available at www.rbd-meadowlands.nj.gov.

Comments on the Draft Scope of Work may be provided during the scoping meeting, or via the methods specified in this notice under the heading FOR FURTHER INFORMATION CONTACT.

Comments on the Draft Scope of Work are requested by this notice and will be accepted and considered until July 20, 2016.

F. Probable Environmental Effects

The following areas have been identified for analysis in the EIS: Land use and land use planning; visual quality and aesthetics; socioeconomics and community/population and housing; environmental justice; cultural and historic resources; transportation, traffic, and circulation, including airport operations; noise and vibration; air quality; greenhouse gas emissions; global climate change; recreation; utilities and service systems; public services; biological resources, including threatened and endangered species; geology and soils; hydrology and flooding, including floodplain management; water resources, water quality, and waters of the United States, including wetlands; coastal zone management; hazards and hazardous materials; and cumulative impacts.

Dated: June 10, 2016.
Harriet Tregoning,
Principal Deputy Assistant, Secretary for Community Planning and Development.

[FR Doc. 2016-14524 Filed 6-17-16; 8:45 am]

BILLING CODE 4210-67-P